PENSION BENEFIT GUARANTY CORPORATION

OMB Approval of Information Collection; Payment of Premiums

AGENCY: Pension Benefit Guaranty Corporation.

ACTION: Notice of OMB approval of revised collection of information.

SUMMARY: The Office of Management and Budget has approved a revised collection of information under the Pension Benefit Guaranty Corporation's regulation on Payment of Premiums.

FOR FURTHER INFORMATION CONTACT: Catherine B. Klion, Assistant General Counsel for Regulatory Affairs, Office of the General Counsel, Pension Benefit Guaranty Corporation, 1200 K Street NW., Washington, DC 20005-4026; 202-326-4024. (TTY/TDD users may call the Federal relay service toll-free at 1-800-877-8339 and ask to be connected to 202-326-4024.)

SUPPLEMENTARY INFORMATION: On March 11, 2014 (at 79 FR 13547), the Pension Benefit Guaranty Corporation (PBGC) published a final rule amending its regulation on Payment of Premiums (29 CFR part 4007). The amendment affected the collection of information under the regulation. On the same day, PBGC submitted the revised collection of information for review by the Office of Management and Budget (OMB) under the Paperwork Reduction Act. On April 11, 2014, OMB approved the revised collection of information under OMB control number 1212-0009; the approval expires April 30, 2017. An agency may not conduct or sponsor, and a person is not required to respond to, a collection of information unless it displays a currently valid OMB control number.

Issued in Washington, DC, this 22nd day of April 2014.
Judith Starr,
General Counsel, Pension Benefit Guaranty Corporation.

[FR Doc. 2014-09484 Filed 4-24-14; 8:45 am]

BILLING CODE 7709-02-P